DEPARTMENT OF TRANSPORTATION

Office of the Secretary

[Docket No. DOT-OST-2018-0206]

Air Ambulance and Patient Billing Advisory Committee Matters

AGENCY: Office of the Secretary (OST), Department of Transportation (DOT).

ACTION: Notice of public meeting.

SUMMARY: The U.S. Department of Transportation (Department) announces a public meeting of the Air Ambulance and Patient Billing (AAPB) Advisory Committee on May 27-28, 2021. The AAPB Advisory Committee will discuss the reports and recommendations of the Subcommittee on Disclosure and Distinction of Charges and Coverage for Air Ambulance Services, Subcommittee on Prevention of Balance Billing, and Subcommittee on State and DOT Consumer Protection Authorities.

DATES: The AAPB Advisory Committee will hold a virtual meeting on May 27-28, 2021, from 10:00 a.m. to 5:30 p.m., Eastern Daylight Time.

ADDRESSES: The virtual meeting will be open to the public and held via the Zoom Webinar Platform. Virtual attendance information will be provided upon registration. A detailed agenda will be available on the AAPB Advisory Committee website at https://www.transportation.gov/airconsumer/AAPB at least one week before the meeting, along with copies of the meeting minutes after the meeting.

FOR FURTHER INFORMATION CONTACT: To register and attend this virtual meeting, please contact the Department by email at AAPB@dot.gov. Attendance is open to the public subject to any technical and/or capacity limitations. For further information, contact Robert Gorman, Senior Attorney, at (202) 366-9342 or by email at robert.gorman@dot.gov.

SUPPLEMENTARY INFORMATION:

I. Background

The FAA Reauthorization Act of 2018 requires the Secretary of Transportation, in consultation with the Secretary of Health and Human Services, to establish an advisory committee to review options to improve the disclosure of charges and fees for air medical services, better inform consumers of insurance options for such services, and protect consumers from balance billing. On September 12, 2019, the Department announced the creation of the AAPB Advisory Committee.

The AAPB Advisory Committee held a public meeting on January 15-16, 2020. At that meeting, the AAPB Advisory Committee gathered information about the air ambulance industry, air ambulance costs and billing, and insurance and air ambulance payment systems. The AAPB Advisory Committee also discussed disclosure and separation of charges, cost shifting, and balance billing.

On February 4, 2020, the Department established three Subcommittees: (1) The Subcommittee on Disclosure and Distinction of Charges and Coverage for Air Ambulance Services; (2) the Subcommittee on Prevention of Balance Billing, and (3) the Subcommittee on State and DOT Consumer Protection Authorities. On January 11, 2021, the Subcommittees filed reports and draft recommendations for the full Committee's review. The reports are available for public review on the AAPB Advisory Committee's docket, DOT-OST-2018-0206.

II. Summary of the Agenda

During the May 27-28 meeting, AAPB Advisory the Committee will deliberate on the Subcommittees' reports and recommendations. A more detailed agenda will be made available at least one week before the meeting at https://www.transportation.gov/airconsumer/AAPB.

III. Public Participation

The meeting will be open to the public and attendance may be limited due to virtual meeting constraints. To register, please send an email to the Department as set forth in the FOR FURTHER INFORMATION CONTACT section. The Department is committed to providing equal access to this meeting for all participants. If you need alternative formats or services because of a disability, such as sign language interpreter or other ancillary aids, please contact the person listed in the FOR FURTHER INFORMATION CONTACT section.

Members of the public may also present written comments at any time. The docket number referenced above (DOT-OST-2018-0206) has been established for committee documents, including any written comments that may be filed. At the discretion of the Chair, after completion of the planned agenda, individual members of the public may provide comments through the chat feature of the webinar platform or orally, time permitting. Any oral comments presented must be limited to the objectives of the committee and will be limited to five (5) minutes per person. Individual members of the public who wish to present oral comments must notify the Department of Transportation contact noted above via email that they wish to attend and present oral comments no later than May 24, 2021.

Speakers are requested to submit a written copy of their prepared remarks for inclusion in the meeting records and for circulation to AAPB Advisory Committee members by May 24, 2021. All prepared remarks submitted on time will be accepted and considered as part of the meeting's record.

IV. Viewing Documents

You may view documents mentioned in this notice at https://www.regulations.gov. After entering the docket number (DOT-OST-2018-0206), click the link to “Open Docket Folder” and choose the document to review.

Issued in Washington, DC.
John E. Putnam,
Acting General Counsel.

[FR Doc. 2021-08536 Filed 4-23-21; 8:45 am]

BILLING CODE 4910-9X-P